DEPARTMENT OF HEALTH AND HUMAN SERVICES

Health Resources And Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Health Centers Patient Survey—Pretest (NEW)

The Health Center program supports Community Health Centers (CHCs), Migrant Health Centers (MHCs), Health Care for the Homeless (HCH) projects, and Public Housing Primary Care (PHPC) programs. Health Centers (HCs) receive grants from HRSA to provide primary and preventive health care services to medically underserved populations.

The proposed Patient Survey will collect in-depth information about HC patients, their health status, the reasons they seek care at HCs, their diagnoses, the services they utilize at HCs and elsewhere, the quality of those services, and their satisfaction with the care they receive, through personal interviews of a stratified random sample of HC patients. The survey pre-test, which is the subject of this Notice, will serve as a pilot test of the survey instrument, survey sampling methodologies and procedures. This pre-test will also include cognitive interviews to ensure that the questions are being understood as was intended; as a result, it is estimated that each pre-test patient interview will take 2 hours.

The Patient Survey being pre-tested builds on previous periodic User-Visit Surveys which were conducted to learn about the process and outcomes of care in CHCs and HCH programs. The original questionnaires were derived from the National Health Interview Survey (NHIS) and the National Hospital Ambulatory Medical Care Survey (NHAMCS) conducted by the National Center for Health Statistics (NCHS). Conformance with the NHIS and NHAMCS allowed comparisons between these NCHS surveys and the previous CHC and HCH User-Visit Surveys. The new Patient Survey was developed using a questionnaire methodology similar to that used in the past, and so will allow some longitudinal comparisons for CHCs and HCH programs with the previous User-Visit survey data, including monitoring of process outcomes over time. In addition, this survey will include interviews of patients drawn from migrant populations and from residents of public housing, populations not included in the previous surveys.

The estimated response burden for the pilot test is as follows:

Pretest
Type of respondent; activity involved | Number of respondents | Responses per respondent | Total number of responses | Burden per response (hours) | Total hour burden
Grantee/Site Recuitment | 2 | 3 | 6 | 3.75 | 22.5
Patient Recuitment | 90 | 1 | 90 | .167 | 15
Patient Survey | 70 | 1 | 70 | 2 | 140
Total—Pretest | 92 |  | 166 |  | 177.5

Send comments to Susan G. Queen, PhD., HRSA Reports Clearance Officer, Room 10-33, Parklawn Building, 5600 Fishers Lane, Rockville, MD 20857. Written comments should be received within 60 days of this notice.

Dated: April 24, 2008.
Alexandra Huttinger,
Director, Division of Policy Review and Coordination.

[FR Doc. E8-9517 Filed 4-25-08; 8:45 am]

BILLING CODE 4165-15-P